POSTAL SERVICE

Privacy Act of 1974, System of Records

AGENCY: Postal Service.

ACTION: Notice of new and deleted systems of records.

SUMMARY: The Postal Service proposes a reorganization of the current Privacy Act systems of records, as they relate to its external customers. The Postal Service is creating 16 new systems and deleting 22 existing systems of records. The new systems contain all records provided by individual and business customers to the Postal Service.

The new systems encompass a wider range of programs and services in order to provide customers with a comprehensive view of the Postal Service's data collection and management practices. They are organized into more useful categories and are written in plain English. The new systems incorporate our Privacy Act and Postal Service privacy policy requirements, and they reflect the Postal Service focus on industry best practices in protecting customer privacy. The routine uses that apply to customer systems have been revised to more clearly communicate the ways in which the Postal Service uses customer information.

This notice publishes:

Explanation (Section A)

Systems of records index (Section B)

Privacy Act overview (Section C)

Routine uses for general systems (Section D)

Routine uses for customer systems (Section E)

Deletion of 22 systems of records (Section F)

Advance notice of 16 new systems of records (Section G)

Complete text of new systems of records (Section H)

Deleted Systems

The 22 existing systems deleted by the reorganization are listed as follows:

010.010 Address Change, Mail Forwarding, and Related Services Records

010.020 Boxholder Records

010.050 Delivery of Mail Through Agents

010.060 Free Matter for Blind and Visually Handicapped Persons

010.070 Mailbox Irregularities

010.090 Customer Public Key Certificate Records

040.010 Memo to Mailers Address File

040.020 Sexually Oriented Advertisements

040.030 Auction Customer Address Files

040.050 Customer Electronic Document Preparation and Delivery Records

040.060 Customer Electronic Bill Presentment and Payment Records

050.050 International Money Transfer Transaction and Inquiry Records

050.070 Funds Transaction/Transfer Reports

050.080 Suspicious Transaction Reports

090.020 Passport Application Records

140.020 Postage—Postage Evidencing System Records

160.010 Domestic Insured, Registered, Collect on Delivery (COD), and Express Mail Claim and Inquiry Records

160.020 International Ordinary, Insured, Registered, and Express Mail Inquiry and Application for Indemnity Records

220.010 Marketing Database—Customer Records

220.020 Express Mail Service Customer Mailing List

220.030 Postal Products Sales and Distribution

400.010 USPS eServices Registration System Records

New Systems

The preceding 22 systems will be replaced in their entirety with the 16 new systems of records listed as follows:

500.000 Address Change, Mail Forwarding, and Related Services

510.100 www.usps.com Registration

510.200 www.usps.com Ordering, Payment, and Fulfillment

510.300 Offline Registration, Payment, and Fulfillment

520.100 Mailer Services—Applications and Approvals

520.200 Mail Management and Tracking Activity

530.000 Customer Service and Correspondence

540.000 Customer Delivery Instructions

550.000 Auction Files

560.000 Financial Transactions

570.100 Trust Funds and Transaction Records

570.200 Meter Postage and PC Postage Customer Data and Transaction Records

580.000 Post Office and Retail Services

590.000 Sales, Marketing, Events, and Publications

600.000 International Services

610.000 Identity and Document Verification Services

These actions comply with subsection (e)(4) of the Privacy Act (5 U.S.C. 552a) that requires an agency to publish notice of the existence and character of its systems of records upon establishment or revision, and with paragraph 3a(8) of Appendix I to OMB Circular No. A-130 requiring an agency to conduct a review of the accuracy of its systems of records.

DATES: Any interested party may submit written comments on the proposed new systems of records. Sections A through H will become effective without further notice January 27, 2003, unless comments received on or before that date result in a contrary determination.

ADDRESSES: Written comments on this proposal should be mailed or delivered to the Records Officer, United States Postal Service, 475 L'Enfant Plaza, Room 5846, Washington, DC 20260-5846. Copies of all written comments will be available at the above address for public inspection and photocopying between 8 a.m. and 4 p.m., Monday through Friday.

FOR FURTHER INFORMATION CONTACT: Robert J. Faruq at (202) 268-2608.

SUPPLEMENTARY INFORMATION: The Postal Service has revised its Privacy Act systems of records that relate to its customers. The systems of records have been issued in order to clearly communicate the Postal Service's data collection and management practices to all its customers.

The existing customer-related systems have been combined and recategorized into 16 new systems. The new systems have been updated in order to improve usability for customers, ensure inclusion of individuals who use business-oriented products and services, and revise and clarify routine uses of information for customer-related systems.

The new systems of records will enhance privacy protection by extending protections to business customers, expanding programs covered, incorporating privacy policies, refining disclosures of information, and establishing systems that are clearer and easier to use and understand.

The new systems of records are not expected to have any adverse effect on privacy rights.

Following are:

Section A—Explanation

Section B—Index

Section C—Privacy Act protections

Section D—Routine uses for general systems

Section E—Routine uses for customer systems

Section F—Deletion of 22 systems

Section G—Notice of 16 new systems

Section H—Complete text of new systems

Section A. Explanation

This notice includes Sections A-H relating to systems of records under the Privacy Act.

Section B is a complete index of Postal Service systems of records that incorporates all of the changes published in this notice. Section B is divided into two parts:

Part 1 includes all general systems, such as personnel systems, litigation systems, and other noncustomer systems.

Part 2 includes all systems that contain records relating to Postal Service customers.

Section C contains an overview of the Privacy Act, its protections, and a description of authorized disclosures.

Section D contains the routine uses that apply to all general systems of records.

Section E contains the routine uses that apply to all customer systems of records.

Section F is a listing of the 22 deleted systems of records with specific references for each deleted system to the new system containing the relevant records.

Section G is the advance notice of the 16 new systems of records, with a listing and brief description of each system.

Section H contains the complete text of the 16 new systems of records.

Section B. Systems of Records Index

Part 1. General Systems of Records

010.000 Collection and Delivery Records

.030 Carrier Drive-Out Agreements

.040 City Carrier Route Records

.080 Rural Carrier Route Records

.020.000 Corporate Relations

.010 Biographical Summaries of Management Personnel for Press Release

030.000 Equal Employment Opportunity/Alternative Dispute Resolution

.010 EEO Discrimination Complaint Files

.020 EEO Staff Selection Records

.030 EEO Administrative Litigation Case Files

.040 Roster of Alternative Dispute Resolution Providers

050.000 Finance Records

.005 Accounts Receivable Files

.020 Payroll System

.040 Uniform Allowance Program

.060 Accounts Payable Files

060.000 Consumer Protection Records

.010 Fraud, False Representation, Lottery, and Nonmailability Case Records

.020 Pandering Act Prohibitory Orders

.030 Appeals Involving Mail Withheld from Delivery

.040 Appeals from Termination of Post Office Box or Caller Service

070.000 Inquiries and Complaints

.010 Correspondence Files of the Postmaster General

.020 Government Officials' Inquiry System

.040 Employee Complaint Records

080.000 Inspection Requirements

.010 Investigative File System

.020 Mail Cover Program Records

.030 Vehicular Violations Records System

100.000 Office Administration

.010 Carpool Coordination/Parking Services Records System

.050 Localized Employee Administration Records

110.000 Property Management

.010 Accountable Property Records

.020 Possible Infringement of Postal Service Intellectual Property Rights

120.000 Personnel Records

.020 Blood Donor Records System

.035 Employee Accident Records

.036 Discipline, Grievance, and Appeals Records for Nonbargaining Unit Employees

.040 Employee Job Bidding Records

.050 Employee Ideas Program Records

.060 Confidential Statements of Employment and Financial Interests

.061 Public Financial Disclosure Reports for Executive Branch Personnel

.070 General Personnel Folders (Official Personnel Folders and Records Related Thereto)

.090 Medical Records

.091 Vehicle Operators Controlled Substance and Alcohol Testing Records

.098 Office of Workers' Compensation Program (OWCP) Record Copies

.099 Injury Compensation Payment Validation Records

.100 Performance Awards System Records

.110 Preemployment Investigation Records

.120 Personnel Research and Test Validation Records

.121 Applicant Race, Sex, National Origin, and Disability Status Records

.130 Postmaster Selection Program Records

.140 Employee Assistance Program (EAP) Records

.151 Recruiting, Examining, and Appointment Records

.152 Career Development and Training Records

.153 Individual Performance Evaluation/Measurement

.154 Employee Survey Process System Records

.170 Safe Driver Awards Records

.180 Skills Bank (Human Resources Records)

.190 Supervisors' Personnel Records

.210 Vehicle Maintenance Personnel and Operators Records

.220 Arbitration Case Files

.230 Adverse Action Appeals (Administrative Litigation Case Files)

.240 Garnishment Case Files

150.000 Records and Information Management Records

.010 Information Disclosure Accounting Records (Freedom of Information Act)

.015 Freedom of Information Act Appeals and Litigation Records

.020 Information Disclosure Accounting Records (Privacy Act)

.025 Privacy Act Appeals and Litigation Records

.030 Computer Logon ID Records

170.000 Resource Management/Productivity Records

.010 Workload/Productivity Management Records

.020 Resource Management Database

190.000 Litigation Records

.010 Miscellaneous Civil Action and Administrative Proceeding Case Files

.020 National Labor Relations Board Administrative Litigation Case Files

.030 Employee and Labor Relations Court Litigation Case Files

200.000 Nonmail Monetary Claims

.010 Relocation Assistance Claims

.020 Monetary Claims for Personal Property Loss or Damage Involving Present or Former Employees

.030 Tort Claims Records

210.000 Contractor Records

.010 Architect-Engineers Selection Records

.020 Driver Screening System Assignment Records

.030 Contractor Employee Fingerprint Records

.040 Supplier and Contractor Records

300.000 Inspector General's Records

.010 Investigative File System

Part 2. Customer Systems of Records

500.000 Address Change, Mail Forwarding, and Related Services

510.000 Registration, Fulfillment of Products and Services

.100 www.usps.com Registration

.200 www.usps.com Ordering, Payment and Fulfillment

.300 Offline Registration, Payment and Fulfillment

520.000 Mail Management and Tracking

.100 Mailer Services—Applications and Approvals

.200 Mail Management and Tracking Activity

530.000 Customer Service and Correspondence

540.000 Customer Delivery Instructions

550.000 Auction Files

560.000 Financial Transactions

570.000 Trust Funds and Transaction Records

.100 Trust Funds and Transaction Records

.200 Meter Postage and PC Postage Customer Data and Transaction Records

580.000 Post Office and Retail Services

590.000 Sales, Marketing, Events, and Publications

600.000 International Services

610.000 Identity and Document Verification Services

Section C. Privacy Act Protections

Privacy Act

The Privacy Act of 1974, 5 U.S.C. 552a, applies to Federal agencies, including the Postal Service. The Privacy Act provides protections for personal information that an agency maintains in a system of records. A system of records describes a file, database, or program from which information is retrieved about an individual by name or other personal identifier.

Privacy Act Protections

The Privacy Act establishes recordkeeping, access, and nondisclosure requirements for information maintained in a system of records. The Privacy Act requires agencies to publish a description of each system of records to provide full information on how personal information within the system is treated. This includes how information is collected, used, disclosed, stored, and disposed of. It also includes how individuals can obtain access to, correct, and amend, information relating to themselves that is stored in the system.

The Privacy Act places limitations and requirements on how information from within a system can be disclosed, as described below. Sections D and E contain the complete description of routine uses that apply to the Postal Service systems of records.

Authorized Disclosures and Routine Uses

Under the Privacy Act, information can only be disclosed from a system, internally or externally, under one of two conditions.

1. The individual has authorized the disclosure in writing.

2. The disclosure fits within one of 12 specified categories.

The following is a description of disclosures, including those authorized by the Privacy Act, Postal Service routine uses, and regulations.

Disclosures Authorized by the Privacy Act

The Privacy Act authorizes disclosures in the following 12 circumstances. To see the official text of the Privacy Act, see 5 U.S.C. 552a(b).

Under the Privacy Act, disclosures are authorized:

1. To agency employees who need the information to perform their job.

2. As required by the Freedom of Information Act (FOIA).

3. For routine uses for which the agency has provided proper notice.

4. To the Bureau of the Census for purposes related to census and survey activities.

5. To a recipient who provides advance written assurance that the information will only be used for statistical research or reporting, and the information provided does not identify individuals.

6. To the National Archives and Records Administration for historic preservation purposes.

7. To other domestic government agencies for a civil or criminal law enforcement activity if the activity is authorized by law. In such cases, the agency head must specify in writing both the law enforcement activity and the particular information needed.

8. To a person upon a showing of compelling circumstances affecting an individual's health or safety. The agency must send notice of the disclosure to the individual's last known address.

9. To Congress, or to any of its committees or subcommittees, to the extent the matter is within their jurisdiction.

10. To the Comptroller General in the performance of duties of the General Accounting Office.

11. Pursuant to the order of a court of competent jurisdiction.

12. To a consumer reporting agency in order to collect claims owed to the Government.

Postal Service Disclosures and Routine Uses

The Privacy Act allows agencies to disclose information from a system of records if they establish a routine use describing the disclosure (see 3 above). Under the Privacy Act, routine uses are defined as disclosures that are compatible with the purpose for which the information was collected—in other words, disclosures that are appropriate and necessary for the efficient conduct of government business. Routine uses for each system of records are established by publishing them in a Federal Register notice that describes the system. They must also be disclosed in a notice given to an individual when information is collected directly from the individual. Routine uses that apply to general and customer systems of records are contained in Sections D and E, respectively.

The Privacy Act also allows disclosures required by the Freedom of Information Act (FOIA). Postal Service regulations implementing the Privacy Act and FOIA are contained in 39 CFR parts 261-268. Postal Service regulations describe treatment for particular FOIA and other requests, and describe exemptions permitting nondisclosure for certain personal and business information as allowed by FOIA.

Section D. Prefatory Statement of Routine Uses That Apply to the General Systems of Records

General Systems of Records

Section D includes routine uses for general systems of records. General systems include systems relating to employees, Finance, Postal Inspection Service, litigation, and other systems that are not primarily related to Postal Service customers.

Routine Uses for General Systems

The following are routine uses for general systems of records. (Note: The letter “i” was not used.) Each system notice indicates which standard routine uses are incorporated, as well as any specific routine uses that apply.

a. Disclosure for Law Enforcement Purposes. When the Postal Service becomes aware of an indication of a violation or potential violation of law, whether civil, criminal, or regulatory in nature, and whether arising by general statute or particular program statute, or by regulation, rule, or order issued pursuant thereto, or in response to the appropriate agency's request on a reasonable belief that a violation has occurred, the relevant records may be referred to the appropriate agency, whether Federal, state, local, or foreign, charged with enforcing or implementing the statute, rule, regulation, or order issued pursuant thereto.

b. Disclosure Incident to Litigation. Records from this system may be disclosed to the U.S. Department of Justice or the other counsel representing the Postal Service, or may be disclosed in a proceeding before a court or adjudicative body before which the Postal Service is authorized to appear, when (a) the Postal Service; or (b) any Postal Service employee in his or her official capacity; or (c) any Postal Service employee in his or her individual capacity whom the Department of Justice has agreed to represent; or (d) the United States when it is determined that the Postal Service is likely to be affected by the litigation, is a party to litigation or has an interest in such litigation, and such records are determined by the Postal Service or its counsel to be plausibly relevant to the litigation, provided, however, that in each case, the Postal Service determines that disclosure of the records is a use of the information that is compatible with the purpose for which it was collected. This routine use specifically contemplates that information may be released in response to relevant discovery and that any manner of response allowed by the rules of the forum may be employed.

c. Disclosure Incident to Requesting Information. Records may be disclosed to a Federal, state, or local agency maintaining civil, criminal, or other relevant enforcement or other pertinent information, such as licenses, when necessary to obtain information from such agency that is relevant to a Postal Service decision about the hiring or retention of an employee, the issuance of a security clearance, the letting of a contract, or the issuance of a license, grant, permit, or other benefit.

d. Disclosure to Requesting Agency. Records may be disclosed to a Federal, state, local, or foreign agency, in response to its request, in connection with the hiring or retention of an employee, the issuance of a security clearance, the conduct of a security or suitability investigation of an individual, the reporting of an investigation of an employee, the letting of a contract, or the issuance or a license, grant, or other benefit by the requesting agency, to the extent that the information is relevant and necessary to the requesting agency's decision on the matter.

e. Congressional Inquiries. Disclosure may be made to a congressional office from the record of an individual in response to an inquiry from the congressional office made at the prompting of that individual.

f. Disclosure to Agents and Contractors. Records or information from this system may be disclosed to an expert, consultant, or other individual who is under contract to the Postal Service to fulfill an agency function, but only to the extent necessary to fulfill that function. This may include disclosure to any individual with whom the Postal Service contracts to reproduce by typing, photocopy, or other means, any record for use by Postal Service officials in connection with their official duties or to any individual who performs clerical or stenographic functions relating to the official business of the Postal Service.

g. Storage. Inactive records may be transferred to a Federal records center for Storage prior to destruction.

h. Disclosure to Office of Management and Budget. Records from this system may be disclosed to the Office of Management and Budget in connection with the review of private relief legislation as set forth in OMB Circular No. A-19 at any stage of the legislative coordination and clearance process as set forth in that circular.

j. Disclosure to Outside Auditors. Records in this system may be subject to review by an independent certified public accountant during an official audit of Postal Service finances.

k. Disclosure to Equal Employment Opportunity Commission. Records from this system may be disclosed to an authorized investigator, administrative judge, or complaints examiner appointed by the Equal Employment Opportunity Commission, when requested in connection with the investigation of formal complaint of discrimination filed against the U.S. Postal Service under 29 CFR Part 1614.

l. Disclosure to Merit Systems Protection Board or Office of the Special Counsel. Records from this system may be disclosed to the Merit Systems Protection Board or Office of the Special Counsel for the purpose of litigation, including administrative proceedings, appeals, special studies, investigations of alleged or possible prohibited personnel practices, and such other functions as may be authorized by law.

m. Disclosure to Labor Organizations. Pursuant to the National Labor Relations Act, records from this system may be furnished to a labor organization when needed by that organization to properly perform its duties as the collective bargaining representative of Postal Service employees in an appropriate bargaining unit.

Section E. Prefatory Statement of Routine Uses That Apply to Customer Systems

Customer Systems of Records

Section E includes routine uses for systems of records containing information relating to Postal Service customers.

Routine Uses for Customer Systems

The following standard routine uses apply to Postal Service systems of records for customer information. The routine uses fall into three categories: (1) Disclosures that are legally required (such as in a legal proceeding); (2) disclosures that facilitate the customer transaction (such as sharing data with contractors assisting in the program); and (3) disclosures for the benefit of the customer (such as sharing with a congressional office at a customer's behest). A system may have an additional routine use or uses on occasion. Those routine uses will be disclosed in each system notice.

1. Disclosure for Law Enforcement Purposes. Relevant records may be disclosed to appropriate law enforcement agencies to investigate, prevent, or take action regarding suspected illegal activities against the Postal Service. Records may be disclosed to other law enforcement agencies as required by law.

2. Disclosure Incident to Legal Proceedings. When the Postal Service has an interest in litigation or other legal proceedings before a state, Federal, local, administrative, or foreign adjudicative body, relevant records may be disclosed before that adjudicative body and/or to the Department of Justice or other legal counsel representing the Postal Service or its employees, and in response to relevant discovery.

3. Disclosure to Government Agencies. Relevant records may be disclosed to a Federal, state, local or foreign government agency when necessary in connection with decisions by the requesting agency, or by the Postal Service, regarding personnel matters, issuance of security clearances, letting of contracts, or decisions to issue licenses, grants, or other benefits.

4. Congressional Inquiries. Relevant records about an individual may be disclosed to a congressional office in response to an inquiry from the congressional office made at the prompting of that individual.

5. Disclosure to Agents, Contractors, and Partners. Relevant records may be disclosed to entities under contract or agreement with the Postal Service, when necessary to fulfill a Postal Service function or to provide Postal Service products and services to customers.

6. Disclosure to Agencies and Entities for Financial Transactions. Relevant records may be disclosed to credit bureaus, government agencies, and service providers that perform identity verification and credit risk assessment services; to financial institutions or payees to facilitate or resolve issues with payment services; or to collection agencies for the purposes of debt collection.

7. Disclosure to Auditors. Relevant records may be disclosed to government agencies and other entities authorized to audit the Postal Service and Postal Service activities, including financial and other audits of the Postal Service.

8. Disclosure for Customer Service Purposes. Relevant records may be disclosed to entities if the disclosure is part of the service to the customer. This includes disclosures to addressees of mail to process inquiries and claims; entities to which the customer wants to provide identity verification; the State Department for passport processing; international posts or agents to process international services or inquiries; or disclosures to mailers of sexually oriented advertisements of a list of individuals who do not want to receive them.

9. Disclosure to Labor Organizations. Pursuant to the National Labor Relations Act, records may be furnished to a labor organization when needed by that organization to perform properly its duties as the collective bargaining representative of Postal Service employees in an appropriate bargaining unit.

Section F. Deletion of 22 Systems of Records

The following systems have been deleted. The records from the deleted systems are contained in the 16 new systems of records as follows:

010.010 Address Change, Mail Forwarding, and Related Services Records is incorporated into 500.000 Address Change, Mail Forwarding, and Related Services.

400.010 USPS eServices Registration System Records is incorporated into 510.100 usps.com Registration Services.

040.050 Customer Electronic Document Preparation and Delivery Records is incorporated into 510.200 www.usps.com Ordering, Payment and Fulfillment Services.

220.030 Postal Products Sales and Distribution is incorporated into 510.300 Offline Registrations, Payment, and Fulfillment.

010.050 Delivery of Mail Through Agents, 010.060 Free Matter for Blind and Visually Handicapped Persons, 010.070 Mailbox Irregularities, and 040.020 Sexually Oriented Advertisements are incorporated into 540.000 Customer Delivery Instructions.

040.030 Auction Customer Address File is incorporated into 550.000 Auction Files.

040.060 Customer Electronic Bill Presentment and Payment Records; 050.050 International Money Transfer Transaction and Inquiry Records; 050.070 Funds Transaction/Transfer Reports; and 050.080 Suspicious Transaction Reports are incorporated into 560.000 Financial Transactions.

220.020 Express Mail Service Customer Mailing List is incorporated into 570.100 Trust Funds and Transaction Records

140.020 Postage—Postage Evidencing System Records is incorporated into 570.200 Meter Postage and PC Postage Customer Data and Transaction Records.

010.020 Boxholder Records, 090.020 Passport Application Records, 160.010 Domestic Insured, Registered, Collect on Delivery (COD), and Express Mail Claim and Inquiry Records, and 160.020 International Ordinary, Insured, Registered, and Express Mail Inquiry and Application for Indemnity Records are incorporated into 580.000 Post Office and Retail Services.

220.010 Marketing Database—Customer Records and 040.010 Memo to Mailers Address File are incorporated into 590.000 Sales, Marketing, Events, and Publications.

010.090 Customer Public Key Certificate Records is incorporated into 610.000 Identity and Document Verification Services.

Section G. Advance Notice of New Systems

Reports of new systems of records, as required by 5 U.S.C. 552a (o), have been submitted to OMB and Congress pursuant to paragraph 4b of Appendix I to OMB Circular No. A-130, “Federal Agency Responsibilities for Maintaining Records about Individuals.”

The following 16 new systems contain records relating to Postal Service customers:

500.000 Address Change, Mail Forwarding, and Related Services

This system includes records relating to change of address, mail forwarding, and related services performed online or offline.

510.100 www.usps.com Registration

This system includes records relating to customers who register on http://www.usps.com.

510.200 www.usps.com Ordering, Payment, and Fulfillment

Customers are required to provide information when ordering products or services on http://www.usps.com. This system includes records relating to the ordering, payment, and fulfillment for these products and services. Products and services include stamps, Postal Service products, shipping supplies, and shipping services, such as obtaining delivery status information, receipts, and labels.

510.300 Offline Registration, Payment and Fulfillment

This system includes records relating to customers who register, and/or order products or services by offline means. This system includes records related to the following activities: stamps and products by mail, catalog, phone, or fax; customer loyalty programs; package service pick-up; and shipping supplies ordering and fulfillment offline.

520.100 Mailer Services—Applications and Approvals

This system includes records relating to customers who wish to use mail management and tracking products and services. This includes records relating to applications and approvals for programs including the following: CONFIRM, PostalOne!, presort accuracy systems, drop ship appointments, ePubWatch, and registration for Confirmation Services and Special Services.

520.200 Mail Management and Tracking Activity

This system includes records relating to customers who use mail management and tracking services. This includes records related to orders for redelivery and hold mail services; schedule drop ship appointments; receive feedback on mailing efficiency; track their mailings; order mail transportation equipment; and receive electronic transmissions of mail scan information. Programs covered include: PostalOne!, CONFIRM, ePubWatch, drop ship appointments, Delivery Unit Notification, Confirmation Services, and Special Services for which the customer has registered.

530.000 Customer Service and Correspondence

This system includes records related to customer service interactions. The system includes records related to customer service support provided by or for the following: Business Service Networks, Nonprofit Mailing Support; mail management and tracking products and services; Delivery Confirmation service and Special Services; and other telephone, e-mail and correspondence-based customer service interactions.

540.000 Customer Delivery Instructions

This system includes records relating to special delivery requirements. The system includes delivery instructions for the following customers: Customers who receive mail delivery through agents; customers who are visually disabled and receive free mail matter; customers with noncompliant mailboxes; and customers who request that certain types of mail not be delivered.

550.000 Auction Files

This system includes records relating to individuals who request information about or participate in auctions of surplus and/or undeliverable items. This system includes records relating to online and offline auctions, performed directly by the Postal Service or by third parties.

560.000 Financial Transactions

This system includes records relating to financial transactions. Financial transactions include funds transfers and online payment services, claims and inquiries related to online payment services, funds transfers, money orders, and stored-value cards. The records include documentation of certain transactions required by anti-money laundering statutes and regulations.

570.100 Trust Funds and Transaction Records

This system includes records collected from customers who open, maintain, and use trust fund payment accounts. This system includes records relating to Permit, CAPS, PostalOne!, and Express Mail Corporate Accounts.

570.200 Meter Postage and PC Postage Customer Data and Transaction Records

This system includes records relating to meter and PC Postage registration, usage, and payment.

580.000 Post Office and Retail Services

This system includes records relating to retail transactions conducted at Post Offices and other locations. This includes records relating to the following: Passport applications and payment; Post Office box and caller services; and the use of self-service equipment. The system also contains records relating to special mail services including: Domestic Insured Mail or Registered Mail; collect on delivery (COD); insured, registered, and recorded international mail; domestic and international Express Mail; and inquiries and claims related to special mail services. (Note: Financial services, such as funds transfers, are covered by the system of records for Financial Transactions.)

590.000 Sales, Marketing, Events, and Publications

This system includes records relating to customer interactions with sales personnel, responses to marketing messages, orders for Postal Service publications, and attendance at events. This system includes records relating to the following activities: Sales; marketing (including business reply cards, e-mail campaigns, and telephone-based marketing interactions); subscriptions to Postal Service publications such as “Memo to Mailers”; customer contests and surveys; and Postal Service events such as the National Postal Forum (NPF) and meetings of Postal Customer Councils (PCCs) and the Mailers Technical Advisory Committee (MTAC).

600.000 International Services

This system includes records relating to international transactions and services, including compliance with domestic and foreign customs requirements. This includes records relating to Customs Pre-Advisory System (CPAS), International Customized Mail Agreements, and international tray label tracking.

610.000 Identity and Document Verification Services

This system contains records related to Postal Service identity and document verification and authentication services. The services provide verification and authentication services, enhanced mail security, and enhanced customer service. Programs in the system include authentication services (such as verifying identities at Postal Service facilities), public key certificates, and electronic postmarks.

Section H. Complete Text of New Systems

This part contains the complete text of the Postal Service's customer-related Privacy Act systems of records.

USPS 500.000

System Name:

Address Change, Mail Forwarding, and Related Services.

System Location:

Postal Service National Customer Support Center (NCSC), Computerized Forwarding System (CFS) sites, Post Offices, and contractor sites.

Categories of Individuals Covered by the System:

Customers requesting change of address, mail forwarding or other related services either online or offline. Customers who are victims of a natural disaster who request mail forwarding services through the American Red Cross.

Categories of Records in the System:

1. Customer information: Name, title, signature, customer number, old address, new address, filing date, and other contact information.

2. Verification and payment information: Credit and/or debit card number, type, and expiration date; information for identity verification; billing information.

3. Demographic information: Designation as individual/family/business.

4. Customer preferences: Permanent or temporary move; mail forwarding instructions; service requests and responses.

5. Customer inquiries and comments: Description of service requests and responses.

6. Records from service providers, including for move-related services, such as name of provider; customer name, number, and contact information; information related to products purchased, billing, and customer service; and records for identity verification.

7. Optional customer information: Information a customer chooses to save to apply to future transactions, such as names, addresses, proof of identification, billing, and other information used to request a service.

8. Protective Orders.

Authority for Maintenance of the System:

39 U.S.C. 401, 403, and 404.

Purpose(s):

1. To provide mail forwarding and change of address services.

2. To provide address correction services.

3. To provide address information to the American Red Cross about a customer who has been relocated because of disaster.

4. To provide customers the ability to contact providers of move-related services (e.g., moving vans or supplies).

Routine Uses of Records Maintained in the System, Including Categories of Users and the Purposes of such Uses:

In addition to the standard routine uses for customer-related systems, the following additional routine uses also apply:

a. Disclosure upon request. The new address of a specific business or organization that has filed a permanent change of address order may be furnished to any individual on request. (Note: The new address of an individual or family will not be furnished pursuant to this routine use, but only when authorized by one of the standard routine uses listed above or one of the specific routine uses listed below.)

b. Disclosure for Address Correction. Disclosure of any customer's new permanent address may be made to a mailer, only if the mailer is in possession of the old address: From the National Change of Address file if the mailer is seeking corrected addresses for a mailing list; from the CFS if a mailpiece is undeliverable as addressed; or from the Locatable Address Correction System if an address designation has been changed or assigned. Copies of change of address orders may not be furnished.

c. Disclosure for Voter Registration. Any customer's permanent change of address may be disclosed to a duly formed election board or registration commission using permanent voter registration. Copies of change of address orders may be furnished.

d. Disclosure to Government Agency. Any customer's permanent or temporary change of address information may be disclosed to a Federal, state, or local government agency upon prior written certification that the information is required for the performance of its duties. A copy of the change of address order may be furnished. Name and address information may be disclosed to government planning authorities, or firms under contract with those authorities, if an address designation has been changed or assigned.

e. Disclosure to Law Enforcement Agency. Any customer's permanent or temporary change of address information may be disclosed to a law enforcement agency, for oral requests made through the Postal Inspection Service, but only after the Postal Inspection Service has confirmed that the information is needed for a criminal investigation. A copy of the change of address order may be furnished.

f. Disclosure for Service of Process. Any customer's permanent or temporary change of address information may be disclosed to a person empowered by law to serve legal process, or the attorney for a party in whose behalf service will be made, or a party who is acting pro se, upon receipt of written information that meets prescribed certification requirements. Disclosure will be limited to the address of the specifically identified individual (not other family members or individuals whose names may also appear on the change of address order). A copy of the change of address order may not be furnished.

g. Disclosure for Jury Service. Any customer's change of address information may be disclosed to a jury commission or other court official, such as a judge or court clerk, for purpose of jury service. A copy of the change of address order may be furnished.

h. Disclosure at Customer's Request. If the customer elects, change of address information may be disclosed to government agencies or other entities, and requests for move-related services may be forwarded to the specified service provider.

Policies and Practices for Storing, Retrieving, Accessing, Retaining, and Disposing of Records in the System:

Storage:

Change of address orders are maintained on file at the delivery unit. They are filed alphabetically by name within a month. Records generated from the source document are recorded on the Forwarding Control system file server and on 8-mm tapes at CFS units. Electronic change of address records and related service records are also stored on disk and/or magnetic tape in a secured environment. Change of address records are consolidated in a National Change of Address (NCOA) File at the NCSC. Selected extracts of NCOA are provided to a limited number of firms under contract or license agreement with the Postal Service. Records pertaining to move-related services are also transmitted to specific service providers, including government agencies and private companies under contract to the Postal Service.

Retrievability:

Records are retrieved by the following methods:

For paper records: by name, address, date, and ZIP Code.

For electronic records: by name, address, date, ZIP Code, and customer number for electronic change of address and related service records; by name, address, and e-mail address for customer service records; by service provider name or number for service provider records.

Safeguards:

Access to and use of these records is limited to those individuals whose official duties require such access. Contractor/licensee is subject to contract controls and unannounced on-site audits and inspection by the Postal Inspection Service.

Retention and Disposal:

National change of address records are retained for 4 years from the effective date.

Records saved at the customer's option are retained until the customer notifies the Postal Service to delete the previous transaction records or the account is disabled for inactivity. The customer may request modifications to saved records at any time, and those modifications will be executed upon receipt of that request.

All other records are retained for up to 18 months. Records are destroyed or deleted at the end of the retention period.

System Manager(s) and Address:

Chief Technology Officer and Senior Vice President, United States Postal Service, 475 L'Enfant Plz. SW., Washington DC 20260.

Vice President, Delivery and Retail, United States Postal Service, 475 L'Enfant Plz. SW., Washington DC 20260.

Notification Procedure:

Customers wanting to know if information about them is maintained in this system of records should address inquiries to their local postmaster. Inquiries should contain full name, address, effective date of change order, route number (if known), and ZIP Code. Customers wanting to know if information about them is also maintained in the NCOA File should address such inquiries to: Manager, NCOA, National Customer Support Center, United States Postal Service, 6060 Primacy Parkway, Memphis TN 38188-0001.

Record Access Procedures:

Requests for access must be made in accordance with the Notification Procedure above and the Postal Service Privacy Act regulations regarding access to records and verification of identity under 39 CFR 266.6.

Contesting Record Procedures:

See Notification Procedure and Record Access Procedures above.

Record Source Categories:

Customers, personnel, and service providers.

USPS 510.100

System Name:

http://www.usps.com Registration.

System Location:

Information Systems Service Centers (ISSC), Postal Service Headquarters Marketing, and contractor sites.

Categories of Individuals Covered by the System:

Customers who register via the Postal Service Web site at http://www.usps.com.

Categories of Records in the System:

1. Customer information: Name; customer ID(s); company name; job title and role; home, business, and billing address; home and business phone and fax number; e-mail; URL; and Automated Clearing House (ACH) information.

2. Identity verification information: Question, answer, username, user ID, and password.

3. Business specific information: Business type and location, business IDs, annual revenue, number of employees, industry, nonprofit rate status, product usage information, annual and/or monthly shipping budget, payment method and information, planned use of product, and age of Web site.

4. Customer preferences: Preferences to receive Postal Service marketing information, preferences to receive marketing information from Postal Service partners, preferred means of contact, preferred e-mail format, product and/or service marketing preference.

5. Customer feedback: Method of referral to Web site.

6. Registration information: Date of registration.

Authority for Maintenance of the System:

39 U.S.C. 401, 403, and 404.

Purpose(s):

1. To provide online registration services for customers.

2. To obtain accurate contact information in order to deliver requested products, services, and other material.

3. To authenticate customer logon information for http://www.usps.com.

4. To permit customer feedback in order to improve http://www.usps.com or Postal Service products and services.

5. To enhance understanding and fulfillment of customer needs.

Routine Uses of Records Maintained in the System, Including Categories of Users and the Purposes of such Uses:

The standard routine uses for customer-related systems apply.

Policies and Practices for Storing, Retrieving, Accessing, Retaining, and Disposing of Records in the System:

Storage:

Automated database, computer Storage media, and paper.

Retrievability:

By customer name, customer ID(s), phone number, or mail or e-mail address.

Safeguards:

Paper records, computers, and computer Storage tapes and disks are maintained in controlled-access areas or under general supervision of program personnel. Computers are protected by a cipher lock system, card key system, or other physical access control methods. Computer systems are also protected with an installed security software package, computer logon identifications, and operating system controls including access controls, terminal and use identifications, and file management. Online data transmissions are protected by encryption.

For small business registration, computer Storage tapes and disks are maintained in controlled-access areas or under general scrutiny of program personnel. Access is controlled by logon ID and password as authorized by the Marketing organization via secure Web site. Online data transmissions are protected by encryption.

Access to these records is limited to authorized personnel. Contractors must provide similar protection subject to a security compliance review by the Postal Inspection Service.

Retention and Disposal:

ACH records are retained for up to 2 years.

Records stored in the registration database are retained until the customer cancels the profile record, for 3 years after the customer last accesses records, or until the relationship ends.

For small business registration, records are retained for 5 years after the relationship ends.

Records are destroyed or deleted at the end of the retention period.

System Manager(s) and Address:

Chief Marketing Officer and Senior Vice President, United States Postal Service, 1735 N Lynn St., Arlington VA 22209.

Notification Procedure:

Customers wanting to know if information about them is maintained in this system of records must address inquiries in writing to the system manager. Inquiries must contain name, address, and other identifying information.

Record Access Procedures:

Requests for access must be made in accordance with the Notification Procedure above and the Postal Service Privacy Act regulations regarding access to records and verification of identity under 39 CFR 266.6.

Contesting Record Procedures:

See Notification Procedure and Record Access Procedures above.

Record Source Categories:

Customers.

USPS 510.200

System Name:

www.usps.com Ordering, Payment, and Fulfillment.

System Location:

Postal Service Marketing Headquarters; Information Systems Service Centers (ISSC); Philatelic Fulfillment Centers; Post Offices; and contractor sites.

Categories of Individuals Covered by the System:

Customers who place orders and/or make payment for Postal Service products and services through http://www.usps.com.

Categories of Records in the System:

1. Customer information: Name, customer ID(s), phone and/or fax number, mail and e-mail address.

2. Payment information: Credit and/or debit card number, type, and expiration date, billing information, Automated Clearing House (ACH) information.

3. Shipping and transaction information: Product and/or service ID numbers, descriptions, and prices; name and address(es) of recipients; order number and delivery status; electronic address lists; electronic documents or images; job number.

4. Claims submitted for defective merchandise.

Authority for Maintenance of the System:

39 U.S.C. 401, 403, and 404.

Purpose(s):

1. To fulfill orders for Postal Service products and services.

2. To promote increased use of the mail by providing electronic document preparation and mailing services for customers.

3. To provide shipping supplies and services, including return receipts and labels.

4. To provide recurring ordering and payment services for products and services.

Routine Uses of Records Maintained in the System, Including Categories of Users and the Purposes of such Uses:

The standard routine uses for customer-related systems apply.

Policies and Practices for Storing, Retrieving, Accessing, Retaining, and Disposing of Records in the System:

Storage:

Automated databases, computer Storage media, and paper.

Retrievability:

By customer name, customer ID(s), phone number, mail or e-mail address, or job number.

Safeguards:

Paper records and computer Storage tapes and disks are maintained in controlled-access areas or under general supervision of program personnel. Computers containing information are located in controlled-access areas with personnel access controlled by a cipher lock system, card key system, or other physical access control method. Computer systems are protected with an installed security software package, computer logon identifications, and operating system controls including access controls, terminal and user identifications, and file management. Online data transmission is protected by encryption, dedicated lines, and authorized access codes. For shipping supplies, data is protected within a stand-alone system within a controlled-access facility.

Access to these records is limited to those persons whose official duties require such access. Contractors must provide similar protection subject to contract controls and security compliance review by the Postal Inspection Service.

Retention and Disposal:

Records related to mailing online and online tracking and/or Confirmation Services supporting a customer order are retained for up to 30 days from completion of fulfillment of the order, unless retained longer by request of the customer. Records related to shipping services and domestic & international labels are retained for 90 days. Delivery Confirmation and return receipt records are retained for 6 months. Signature Confirmation records are retained for 1 year. ACH records are retained for up to 2 years.

Other customer records are retained for 3 years after the customer relationship ends.

Records are destroyed or deleted at the end of the retention period.

System Manager(s) and Address:

Chief Marketing Officer and Senior Vice President, United States Postal Service, 1735 N Lynn St., Arlington VA 22209.

Notification Procedure:

Customers wanting to know if information about them is maintained in this system of records must address inquiries in writing to the system manager. Inquiries must contain name, address, customer ID(s), and order number, if known.

Record Access Procedures:

Requests for access must be made in accordance with the Notification Procedure above and the Postal Service Privacy Act regulations regarding access to records and verification of identity under 39 CFR 266.6.

Contesting Record Procedures:

See Notification Procedure and Record Access Procedures above.

Record Source Categories:

Customers.

USPS 510.300

System Name:

Offline Registration, Payment, and Fulfillment.

System Location:

Postal Service Marketing Headquarters; Information Systems Service Centers (ISSC); Philatelic Fulfillment Service Center; area and district facilities; Post Offices; and contractor sites.

Categories of Individuals Covered by the System:

Customers who register for Postal Service programs, place orders and/or make payment for Postal Service products and services via offline means.

Categories of Records in the System:

1. Customer information: Name, customer ID(s), company name, job title, home, business, and billing address(es), phone number(s), fax number(s), e-mail, URL, verification question and answer, username, and password.

2. Payment information: Credit and/or debit card number, type, and expiration date; billing name and address; check; money order, Automated Clearing House (ACH) information.

3. Shipping information: Product and/or service ID number, name and address of recipient.

4. Customer preferences: Preferences to receive Postal Service marketing information, preferences to receive marketing information from Postal Service partners, preferred contact media, preferred e-mail format, product and/or service marketing preference.

5. Customer feedback: Method of referral.

6. Order processing: Inquiries on status of orders; claims submitted for defective merchandise; lists of individuals who have submitted bad checks.

Authority for Maintenance of the System:

39 U.S.C. 401, 403, and 404.

Purpose(s):

1. To provide offline registration services for customers.

2. To fulfill requests for Postal Service products, services, and other materials.

3. To authenticate customer information and permit customer feedback.

4. To operate recurring ordering and payment services for products and services.

5. To enhance understanding and fulfillment of customer needs.

Routine Uses of Records Maintained in the System, Including Categories of Users and the Purposes of such Uses:

The standard routine uses for customer-related systems apply.

Policies and Practices for Storing, Retrieving, Accessing, Retaining, and Disposing of Records in the System:

Storage:

Automated databases, computer Storage media, and paper forms.

Retrievability:

By customer name, customer ID(s), phone number, mail or e-mail address, or order number.

Safeguards:

Paper records and computer Storage tapes and disks are maintained in controlled-access areas or under general scrutiny of program personnel. Computers containing information are located in controlled-access areas with personnel access controlled by a cipher lock system, card key system, or other physical access control method. Computer systems are protected with an installed security software package, computer logon identifications, and operating system controls including access controls, terminal and user identifications, and file management. Online data transmission is protected by encryption, dedicated lines, and authorized access codes. For shipping supplies, data is protected within a stand-alone system within a controlled-access facility.

Access to these records is limited to those persons whose official duties require such access. Contractors must provide similar protection subject to contract controls and security compliance review by the Postal Inspection Service.

Retention and Disposal:

ACH records are retained for up to 2 years. Other records are retained for up to 3 years after the customer relationship ends.

Records are destroyed or deleted at the end of the retention period.

System Manager(s) and Address:

Chief Marketing Officer and Senior Vice President, United States Postal Service, 1735 N Lynn St., Arlington, VA 22209.

Notification Procedure:

Customers wanting to know if information about them is maintained in this system of records must address inquiries in writing to the system manager. Inquiries must contain name, address, and other identifying information.

Record Access Procedures:

Requests for access must be made in accordance with the Notification Procedure above and the Postal Service Privacy Act regulations regarding access to records and verification of identity under 39 CFR 266.6.

Contesting Record Procedures:

See Notification Procedure and Record Access Procedures above.

Record Source Categories:

Customers.

USPS 520.100

System Name:

Mailer Services—Applications and Approvals.

System Location:

Postal Service Headquarters; Information Systems Service Centers (ISSC); National Customer Support Center (NCSC); district facilities; detached mailing units; and facilities that access Postal Service computers.

Categories of Individuals Covered by the System:

Customers who apply for mail management and tracking products or services.

Categories of Records in the System:

1. Customer information: Applicant and key contacts name, mail and e-mail address, phone number, fax number, customer ID(s), job title and/or role, employment status, company name, location, industry, monthly shipping budget, annual revenue, payment information, Automated Clearing House (ACH) information.

2. Customer or product identification and authentication: User and manager customer ID(s) and/or passwords; customer signature, date, last four digits of Social Security Number (SSN); Postal Service site; security personnel name, signature, date, telephone number, and last four digits of SSN; Postal Service location information; D-U-N-S® Number; postage meter numbers; permit numbers; POSTNET code; mailer ID(s); publication name(s) and ID(s); and name(s) of authorized users.

3. Mail practices and delivery information: Type of mailing equipment and/or containers used, mail preparation information, drop shipment sites and codes, compatibility with mailing automation equipment, presort options and tests, frequency of mailings, mail volume, primary type of mailing, destination information, use of contracted mail services, names and addresses of contractors and advertisers, publication name(s) and ID(s), and appointment times.

4. Technical information: Hardware, software, and equipment names, types, versions, and specifications; media preferences; mail site specifications.

5. Product usage and payment information: Package volumes, package weights, product ordered, quantity ordered, billing information, products used, ordered date, inventory date, and usage measure dates.

6. Customer feedback: Method of referral.

Authority for Maintenance of the System:

39 U.S.C. 401, 403, and 404.

Purpose(s):

1. To provide application services for mail management and tracking products and services.

2. To authenticate applicant information, assign computer logon IDs, and qualify and assist users.

3. To provide product and/or service updates, service, and support.

4. To collect accurate technical data to ensure the proper operation of electronic data transmission and software.

Routine Uses of Records Maintained in the System, Including Categories of Users and the Purposes of such Uses:

The standard routine uses for customer-related systems apply.

Policies and Practices for Storing, Retrieving, Accessing, Retaining, and Disposing of Records in the System:

Storage:

Automated database, computer Storage media, and paper.

Retrievability:

By customer name, customer ID(s), or logon ID.

Safeguards:

Paper records, computers, and computer Storage tapes and disks are maintained in controlled-access areas or under general supervision of program personnel. Computers are protected by a cipher lock system, card key system, or other physical access control methods. Computer systems are also protected with an installed security software package, computer logon identifications, and operating system controls including access controls, terminal and use identifications, and file management. Online data transmissions are protected by encryption.

Access to these records is limited to authorized personnel, who must be identified with a badge. Contractors must provide similar protection subject to a security compliance review by the Postal Inspection Service.

Retention and Disposal:

Logon records are retained for 1 year after computer access. ACH records are retained for up to 2 years. Security access records are retained for 2 years after computer access privileges are cancelled.

Other customer records are retained for 4 years after the customer relationship ends.

Records are deleted or destroyed at the end of the retention period.

System Manager(s) and Address:

Chief Marketing Officer and Senior Vice President, United States Postal Service, 1735 N Lynn St., Arlington, VA 22209.

Notification Procedure:

Customers wanting to know if information about them is maintained in this system of records must address inquiries in writing to the system manager. Inquiries should contain name, customer ID(s), if any, and/or logon ID.

Record Access Procedures:

Requests for access much be made in accordance with the Notification Procedure above and the Postal Service Privacy Act regulations regarding access to records and verification of identity under 39 CFR 266.6.

Contesting Record Procedures:

See Notification Procedure and Record Access Procedures above.

Record Source Categories:

Customers.

USPS 520.200

System Name:

Mail Management and Tracking Activity.

System Location:

Postal Service Headquarters; Information Systems Service Centers (ISSC); and Mail Transportation Equipment Service Centers.

Categories of Individuals Covered by the System:

Customers who use Postal Service mail management and tracking services.

Categories of Records in the System:

1. Customer information: Customer or contact name, mail and e-mail address, title or role, and phone number.

2. Identification information: Customer ID(s), last four digits of Social Security Number (SSN), D-U-N-S Number; mailer and mailing ID, advertiser name/ID, username, and password.

3. Data on mailings: Paper and electronic data on mailings, including postage statement data (such as volume, class, rate, postage amount, date and time of delivery, mailpiece count), destination of mailing, delivery status, mailing problems, presort information, reply mailpiece information, container label numbers, package label, Special Services label, article number, and permit numbers.

4. Payment information: Credit and/or debit card number, type, and expiration date; Automated Clearing House (ACH) information.

5. Customer preference data: Hold mail begin and end date, redelivery date, delivery options, shipping and pickup preferences, drop ship codes, comments and instructions, mailing frequency, preferred delivery dates.

6. Product usage information: Special Services label and article number.

Authority for Maintenance of the System:

39 U.S.C. 401, 403, and 404.

Purpose(s):

1. To provide mail acceptance, induction, and scheduling services.

2. To fulfill orders for mail transportation equipment.

3. To provide customers with information about the status of mailings within the Postal Service network.

4. To help mailers identify performance issues regarding their mail.

5. To provide delivery units with information needed to fulfill requests for mail redelivery and hold mail service at the address and for the dates specified by the customer.

Routine Uses of Records Maintained in the System, Including Categories of Users and the Purposes of such Uses:

The standard routine uses for customer-related systems apply.

Policies and Practices for Storing, Retrieving, Accessing, Retaining, and Disposing of Records in the System:

Storage:

Automated databases, computer Storage media, and paper.

Retrievability:

By customer name, customer ID(s), or logon ID.

Safeguards:

Paper records, computers, and computer Storage tapes and disks are maintained in controlled-access areas or under general supervision of program personnel. Computers are protected by a cipher lock system, card key system, or other physical access control methods. Computer systems are also protected with an installed security software package, computer logon identifications, and operating system controls including access controls, terminal and use identifications, and file management. Online data transmissions are protected by encryption.

Access to these records is limited to authorized personnel, who must be identified with a badge. Contractors must provide similar protection subject to a security compliance review by the Postal Inspection Service.

Retention and Disposal:

CONFIRM records are retained for up to 30 days. Records related to ePubWatch, Confirmation Services and hold mail services are retained for up to 1 year. Special Services and drop ship records are retained for 2 years. ACH records are retained for up to 2 years.

Other records are retained for 4 years after the relationship ends.

Records are destroyed or deleted at the end of the retention period.

System Manager(s) and Address:

Chief Marketing Officer and Senior Vice President, United States Postal Service, 1735 N Lynn St., Arlington VA 22209.

Notification Procedure:

Customers wanting to know if information about them is maintained in this system of records must address inquiries in writing to the system manager. Inquiries should contain name, customer ID(s), if any, and/or logon ID.

Record Access Procedures:

Requests for access must be made in accordance with the Notification Procedure above and the Postal Service Privacy Act regulations regarding access to records and verification of identity under 39 CFR 266.6.

Contesting Record Procedures:

See Notification Procedure and Record Access Procedures above.

Record Source Categories:

Customers.

System Location:

Postal Service Consumer Advocate, Headquarters; Information Systems Service Centers (ISSC); the Integrated Business Systems Solutions Center (IBSSC); the National Customer Support Center (NCSC); districts, Post Offices, contractor sites; and detached mailing units at customer sites.

Categories of Individuals Covered by the System:

This system contains records relating to customers who contact customer service by online and offline channels. This includes customers making inquiries via e-mail, 1-800-ASK-USPS, other toll-free contact centers, or the BSN, as well as customers with product-specific service or support issues.

Categories of Records in the System:

1. Customer information: customer and key contact name, mail and e-mail address, phone and/or fax number; customer ID(s); title, role, and employment status; company name, location, type and URL; vendor and/or contractor information.

2. Identity verification information: Last four digits of Social Security Number (SSN), username and/or password, D-U-N-S Number, mailer ID number, publisher ID number, security level and clearances, and business customer number.

3. Product and/or service use information: Product and/or service type, product numbers, technology specifications, quantity ordered, logon and product use dates and times, case number, pickup number, article number, and ticket number.

4. Payment information: Credit and/or debit card number, type, and expiration date; billing information; checks, money orders, or other payment method.

5. Customer preferences: Drop ship sites and media preference.

6. Service inquiries and correspondence: Contact history; nature of inquiry, dates and times, comments, status, resolution, and Postal Service personnel involved.

Authority for Maintenance of the System:

39 U.S.C. 401, 403, and 404.

Purpose(s):

1. To enable review and response services for customer inquiries and concerns regarding the Postal Service and its products and services.

2. To ensure that customer accounts and needs are attended to in a timely manner.

Routine Uses of Records Maintained in the System, Including Categories of Users and the Purposes of such Uses:

The standard routine uses for customer-related systems apply.

Policies and Practices for Storing, Retrieving, Accessing, Retaining, and Disposing of Records in the System:

Storage:

Automated databases, computer Storage media, and paper.

Retrievability:

By customer name, customer ID(s), mail or e-mail address, phone number, customer account number, case number, article number, pickup number, and last four digits of SSN, ZIP Code, or other customer identifier.

Safeguards:

Paper records, computers, and computer Storage tapes and disks are maintained in controlled-access areas or under general supervision of program personnel. Computers are protected by a cipher lock system, card key system, or other physical access control methods. Computer systems are also protected with an installed security software package, computer logon identifications, and operating system controls including access controls, terminal and use identifications, and file management. Online data transmissions are protected by encryption.

Access to these records is limited to authorized personnel, who must be identified with a badge. Contractors must provide similar protection subject to a security compliance review by the Postal Inspection Service.

Retention and Disposal:

Customer care records for usps.com products are retained for 90 days. Records related to 1-800-ASK-USPS, Delivery Confirmation service, Special Services, and international call centers are retained for 1 year. Customer complaint records are retained for 3 years. Business Service Network records are retained for 5 years.

Other records are retained for 2 years after resolution of the inquiry.

Records are deleted or destroyed at the end of the retention period.

System Manager(s) and Address:

Vice President and Consumer Advocate, United States Postal Service, 475 L'Enfant Plz. SW., Washington DC 20260-2200.

Notification Procedure:

Customers wanting to know if information about them is maintained in this system of records must address inquiries to the system manager in writing. Inquiries should include name, address, and other identifying information.

Record Access Procedures:

Requests for access must be made in accordance with the Notification Procedure above and the Postal Service Privacy Act regulations regarding access to records and verification of identity under 39 CFR 266.6.

Contesting Record Procedures:

See Notification Procedure and Record Access Procedures above.

Record Source Categories:

Customers.

USPS 540.000

System Name:

Customer Delivery Instructions.

System Location:

Postal Service Headquarters, Prohibitory Order Processing Center, districts, Information Systems Service Centers (ISSC), and Post Offices.

Categories of Individuals Covered by the System:

1. Customers requesting delivery of mail through an agent and the agent to whom the mail is to be delivered.

2. Customers who are visually disabled and cannot use or read conventionally printed material and who are receiving postage-free service in their delivery areas.

3. Customers whose mailboxes do not comply with Postal Service standards and regulations.

4. Customers who elect to have their name and address, or the name and address of their children under 19 years of age or a deceased spouse, placed on the list of individuals who do not want to receive sexually oriented advertisements through the mail.

Categories of Records in the System:

1. Customer information: name, address, phone number, customer ID(s), signature, application number, names and birthdates of children under 19; reports of mailbox irregularities and date; postmaster signature.

2. Verification information: photocopies of IDs, customer name, address, signature, statement from competent authority as being visually impaired.

3. Agency information: agent name, address, signature, and phone number.

Authority for Maintenance of the System:

39 U.S.C. 401, 403, 404, 3010, and 3403.

Purpose(s):

1. To provide for efficient and secure mail delivery services.

2. To permit authorized delivery of mail to the addressee's agent.

3. To enable the efficient processing of mail for visually disabled customers.

4. To protect customers from mail fraud and identity theft.

5. To maintain a list, available to mailers of sexually oriented advertisements (SOAs) of individuals desiring not to receive such matter through the mail.

Routine Uses of Records Maintained in the System, Including Categories of Users and the Purposes of such Uses:

In addition to the standard routine uses for customer-related systems, the following additional routine use also applies:

Information may be disclosed for the purpose of identifying an address as an address of an agent to whom mail is delivered on behalf of other persons. This routine use does not authorize the disclosure of the identities of persons on behalf of whom agents receive mail.

All routine uses are subject to the following exception:

Information concerning an individual who has filed an appropriate protective court order with the postmaster will not be disclosed under any of the general routine uses except pursuant to the order of a court of competent jurisdiction.

Policies and Practices for Storing, Retrieving, Accessing, Retaining, and Disposing of Records in the System:

Storage:

Automated databases, computer Storage media, and paper.

Retrievability:

By customer name, address, and application number, or by customer ID(s).

Safeguards:

Records are kept in file cabinets or computer Storage with access limited to those individuals whose official duties require such access. Contractors are subject to contract controls and unannounced onsite audits and inspection by the Postal Inspection Service. Automated records are subject to computer center access controls.

Retention and Disposal:

Records related to requests not to receive sexually oriented advertisements are retained for up to 5 years after request.

Other records are retained for 1 year from the date the customer relocates, cancels an order, corrects a cited mailbox irregularity, or terminates the special instruction.

Records are deleted or destroyed at the end of the retention period.

System Manager(s) and Address:

For SOA records: Vice President, Pricing and Classification, United States Postal Service, 1735 N Lynn Street, Arlington, VA 22209.

For other delivery records: Vice President, Delivery and Retail, United States Postal Service, 475 L'Enfant Plz. SW., Washington, DC 20260.

Notification Procedure:

Customers wanting to know if information about them is maintained in this system pertaining to mail delivery by agents, noncompliant mailboxes, or with regard to free matter for the visually disabled, must address inquiries to their local postmasters. Customers should include name, address, and other identifying information.

Customers wanting to know if information about them is maintained in this system pertaining to requests not to receive sexually oriented advertising must address inquiries to the system manager. Customers should include name, address, application number, and the date of filing, if applicable.

Record Access Procedures:

Requests for access must be made in accordance with the Notification Procedure above and the Postal Service Privacy Act regulations regarding access to records and verification of identity under 39 CFR 266.6.

Contesting Record Procedures:

See Notification Procedure and Record Access Procedures above.

Record Source Categories:

Customers; cosigners of the request for delivery of mail through an agent; medical personnel or other competent authorities; and Postal Service personnel.

USPS 550.000

System Name:

Auction Files.

System Location:

Postal Service Mail Recovery Centers, Information Systems Service Centers (ISSC), participating Post Offices, and contractor sites.

Categories of Individuals Covered by the System:

Customers who participate in or request information about Postal Service auctions.

Categories of Records in the System:

1. Customer Information: Name, customer ID(s), mail and e-mail address, and phone number.

2. Payment information: Online transaction information, credit and/or debit card number, type, and expiration date; check, or money order.

3. Customer feedback: Means of referral.

Authority for Maintenance of the System:

39 U.S.C. 401, 403, and 404.

Purpose(s):

1. To maintain a list of names and addresses of customers participating in or requesting information about auctions.

2. To accurately process delivery and payment.

Routine Uses of Records Maintained in the System, Including Categories of Users and the Purposes of such Uses:

The standard routine uses for customer-related systems apply.

Policies and Practices for Storing, Retrieving, Accessing, Retaining, and Disposing of Records in the System:

Storage:

Automated databases, computer Storage media, and paper.

Retrievability:

By customer name, customer ID(s), or other identifier.

Safeguards:

Paper records and disks are kept in locked cabinets. Online data is password protected.

Retention and Disposal:

Records are retained for up to 1 year after entry.

Records are deleted or destroyed at the end of the retention period.

System Manager(s) and Address:

Vice President and Consumer Advocate, United States Postal Service, 475 L'Enfant Plz. SW., Washington, DC 20260.

Notification Procedure:

Customers wanting to know if information about them is maintained in this system must address inquiries to the postmaster of the participating Post Office, or to the system manager for online auctions. Inquiries must contain full name, address, and other identifying information.

Record Access Procedures:

Requests for access must be made in accordance with the Notification Procedure above and the Postal Service Privacy Act regulations regarding access to records and verification of identity under 39 CFR 266.6.

Contesting Record Procedures:

See Notification Procedure and Record Access Procedures above.

Record Source Categories:

Customers.

USPS 560.000

System Name:

Financial Transactions.

System Location:

Postal Service Headquarters; Information System Service Centers; Accounting Service Centers; anti-money laundering support group; and contractor sites.

Categories of Individuals Covered by the System:

1. Customers who use online payment or funds transfer services.

2. Customers who file claims or make inquiries related to online payment services, funds transfers, money orders, and stored-value cards.

3. Customers who purchase funds transfers or stored-value cards in an amount of $1000 or more per day, or money orders in an amount of $3000 or more per day, or who purchase or redeem any such services in a manner requiring collection of information as potential suspicious activities under anti-money laundering requirements. Recipients of funds transfers and the beneficiaries of funds from money orders totaling $10,000 in one day.

Categories of Records in the System:

1. Customer information: Name, customer ID(s), mail and e-mail address, telephone number, occupation, type of business, and customer history.

2. Identity verification information: Date of birth, username and/or ID, password, Social Security Number (SSN) or tax ID number, and driver's license number (or other type of ID if driver's license is not available, such as Alien Registration Number, Passport Number, Military ID, Tax ID Number). (Note: For online payment services, SSNs are collected, but not retained, in order to verify ID.)

3. Billers registered for online payment services: biller name and contact information, bill detail, and bill summaries.

4. Transaction information: Name, address, and phone number of purchaser, payee, and biller; amount, date, and location; credit and/or debit card number, type, and expiration; sales, refunds, and fees; type of service selected and status; sender and recipient bank account and routing number; bill detail and summaries; transaction number, serial number, and/or reference number or other identifying number, pay out agent name and address; type of payment, currency, and exchange rate; Post Office information such as location, phone number, and terminal; employee ID numbers, license number and state, and employee comments.

5. Information to determine credit-worthiness: period at current residence, previous address, and period of time with same phone number.

6. Information related to claims and inquiries: name, address, phone number, signature, SSN, location where product was purchased, date of issue, amount, serial number, and claim number.

Authority for Maintenance of the System:

39 U.S.C. 401, 403, and 404 and 31 U.S.C. 5318, 5325, 5331 and 7701.

Purpose(s):

1. To provide financial products and services.

2. To respond to inquiries and claims related to financial products and services.

3. To fulfill requirements of anti-money laundering statutes and regulations.

Routine Uses of Records Maintained in the System, Including Categories of Users and the Purposes of such Uses:

The standard routine uses for customer-related systems apply. Legally required disclosures to agencies for law enforcement purposes include disclosures of information relating to money orders, funds transfers, and stored-value cards as required by anti-money laundering statutes and regulations.

Policies and Practices for Storing, Retrieving, Accessing, Retaining, and Disposing of Records in the System:

Storage:

Automated database, computer storage media, microfiche, and paper.

Retrievability:

For online payment and funds transfer services, information is retrieved by customer name, customer ID(s), transaction number, or address.

Claim information is retrieved by name of purchaser or payee, claim number, serial number, transaction number, check number, customer ID(s), or ZIP Code.

Information related to anti-money laundering is retrieved by customer name; SSN; alien registration, passport, or driver's license number; serial number; transaction number; ZIP Code; transaction date; data entry operator number; and employee comments.

Safeguards:

Paper records, computers, and computer storage tapes and disks are maintained in controlled-access areas or under general supervision of program personnel. Computers are protected by a cipher lock system, card key system, or other physical access control methods. Computer systems are also protected with an installed security software package, computer logon identifications, and operating system controls including access controls, terminal and use identifications, and file management. Online data transmissions are protected by encryption.

Access to these records is limited to authorized personnel. Contractors must provide similar protection subject to contract controls and a security compliance review by the Postal Inspection Service.

Retention and Disposal:

Summary records, including bill due date, bill amount, biller information, biller representation of account number, and the various status indicators, are retained for 2 years from the date of processing.

For funds transfers, transaction records are retained for 3 years.

Records related to claims are retained for up to 3 years from date of final action on the claim.

Forms related to fulfillment of anti-money laundering requirements are retained for 5 years from the end of the calendar quarter in which they were created.

Related automated records are retained for the same 5-year period and purged from the system quarterly after the date of creation.

Enrollment records related to online payment services are retained for 7 years after the subscriber's account ceases to be active or the service is cancelled.

Account banking records, including payment history, Demand Deposit Account (DDA) number, and routing number, are retained for 7 years from the date of processing.

Records are deleted or destroyed at the end of the retention period.

System Manager(s) and Address:

Chief Financial Officer and Executive Vice President, United States Postal Service, 475 L'Enfant Plz. SW., Washington, DC 20260.

Chief Marketing Officer and Senior Vice President, United States Postal Service, 1735 N. Lynn St., Arlington, VA 22209.

Notification Procedure:

For online payment services, funds transfers, and stored-value cards, individuals wanting to know if information about them is maintained in this system must address inquiries in writing to the Chief Marketing Officer. Inquiries must contain name, address, and other identifying information, as well as the transaction number for funds transfers.

For money order claims and anti-money laundering documentation, inquiries should be addressed to the Chief Financial Officer. Inquiries must include name, address, or other identifying information of the purchaser (such as driver's license, Alien Registration Number, Passport Number, etc), and serial or transaction number. Information collected for anti-money laundering purposes will only be provided in accordance with Federal anti-money laundering laws and regulations.

Record Access Procedures:

Requests for access must be made in accordance with the Notification Procedure above and the Postal Service Privacy Act regulations regarding access to records and verification of identity under 39 CFR 266.6.

Contesting Record Procedures:

See Notification Procedure and Record Access Procedures above.

Record Source Categories:

Customers, recipients, financial institutions, and Postal Service employees.

USPS 570.100

System Name:

Trust Funds and Transaction Records.

System Location:

Postal Service Headquarters Marketing; Information Systems Service Centers (ISSC); district offices; Post Offices; and detached mailing units.

Categories of Individuals Covered by the System:

Customers who are users of trust fund payment accounts.

Categories of Records in the System:

1. Customer information: Customer and key contact name, mail and e-mail address, phone and fax number(s); D-U-N-S Number; customer ID(s), taxpayer ID number.

2. Transactional information: Permit authorizations and numbers, postage paid, postage class transaction dates, volume, weight, and revenue of mailing, postage indicium created, estimated annual postage, percent by mailing type, type of user, mailing data files including Postal Service location where the mail was entered.

3. Information necessary for processing electronic payments: Bank name, contact name, bank address and telephone number, bank account number, bank transit ABA number, voided check, credit and/or debit card number, type, and expiration date; Automated Clearing House (ACH) information.

Authority for Maintenance of the System:

39 U.S.C. 401, 403, and 404.

Purpose(s):

1. To establish and maintain trust fund accounts and process payments.

2. To ensure revenue protection.

3. To provide information and updates to users of these accounts.

4. To enhance understanding and fulfillment of customer needs.

Routine Uses of Records Maintained in the System, Including Categories of Users and the Purposes of such Uses:

The standard routine uses for customer-related systems apply.

Policies and Practices for Storing, Retrieving, Accessing, Retaining, and Disposing of Records in the System:

Storage:

Automated database, computer Storage media, and paper.

Retrievability:

By customer name or customer ID(s), account number, and/or address.

Safeguards:

Paper records, computers, and computer Storage tapes and disks are maintained in controlled-access areas or under general supervision of program personnel. Computers are protected by a cipher lock system, card key system, or other physical access control methods. Computer systems are also protected with an installed security software package, computer logon identifications, and operating system controls including access controls, terminal and use identifications, and file management. Online data transmissions are protected by encryption.

Access to these records is limited to authorized personnel, who must be identified with a badge. Contractors must provide similar protection subject to contract controls and a security compliance review by the Postal Inspection Service.

Retention and Disposal:

ACH records are retained for up to 2 years.

Other records in this system are retained for up to 4 years after the relationship ends.

Records are deleted or destroyed at the end of the retention period.

System Manager(s) and Address:

Chief Marketing Officer and Senior Vice President, United States Postal Service, 1735 N Lynn St., Arlington VA 22209.

Notification Procedure:

To access Permit records, customers must make a written request to their local postmaster. Correspondence must include name, address, account number, company name, mailing location, and a clear description of the issue.

To access all other records, customers must make a written request to the system manager. Correspondence must include name, address, account numbers, and other identifying information.

Record Access Procedures:

Requests for access must be made in accordance with the Notification Procedure above and the Postal Service Privacy Act regulations regarding access to records and verification of identity under 39 CFR 266.6.

Contesting Record Procedures:

See Notification Procedure and Record Access Procedures above.

Record Source Categories:

Customers.

USPS 570.200

System Name:

Meter Postage and PC Postage Customer Data and Transaction Records.

System Location:

Postal Service Headquarters Marketing, Postal Service facilities, Information Systems Security Centers (ISSC), and partner locations.

Categories of Individuals Covered by the System:

Postage evidencing system users.

Categories of Records in the System:

1. Customer information: customer ID(s), contact name, address, and telephone number; company name; and change of address information.

2. Identification information: Business customer number, license number, date of license issuance, device ID number, device model number, and certificate serial number.

3. Business-specific information: Estimated annual postage and annual percentage of mail by type, type of usage, and primary business function.

4. Transactional information: Post Office where mail is entered; number, amount, and date of postage purchases; ascending and descending register values; amount of unused postage refunded; contact telephone number; destinating five-digit ZIP Code, date, and rate category of each indicium created; and transaction documents.

5. Financial information: Credit and/or debit card number, type, expiration date, and transaction number; check and electronic fund transfer information; Automated Clearing House (ACH) information.

Authority for Maintenance of the System:

39 U.S.C. 401, 403, and 404.

Purpose(s):

1. To enable responsible administration of postage evidencing system activities.

2. To enhance understanding and fulfillment of customer needs.

Routine Uses of Records Maintained in the System, Including Categories of Users and the Purposes of such Uses:

In addition to the standard routine uses for customer-related systems, the following additional routine use also applies:

The name and address of the holder of a postage meter license authorizing use of a postage meter printing a specified indicium will be furnished to any person provided the holder is using the license for a business or firm.

Policies and Practices for Storing, Retrieving, Accessing, Retaining, and Disposing of Records in the System:

Storage:

Automated databases, computer Storage media, and paper.

Retrievability:

By customer name and by numeric file of postage evidencing systems ID number, by customer ID(s), or customer license number.

Safeguards:

Paper records and computer Storage media are maintained in closed file cabinets in secured facilities. Automated records are protected by computer password. Information obtained from users over the Internet is transmitted electronically to the Postal Service by authorized postage evidencing system providers via a virtual private network.

Retention and Disposal:

ACH records are retained for up to 2 years. Records of payment are retained for up to 7 years.

Other records in this system are retained for up to 4 years after final entry or the duration of the license.

Records are deleted or destroyed at the end of the retention period.

System Manager(s) and Address:

Chief Marketing Officer and Senior Vice President, United States Postal Service, 1735 N Lynn St, Arlington VA 22209.

Notification Procedure:

Customers wanting to know if information about them is maintained in this system of records must address inquires in writing to: Manager, Postage Technology Management, United States Postal Service, 1735 North Lynn St, Arlington VA 22209.

Inquiries should include the individual's name as it appears on the postage evidencing system license and the license number.

Record Access Procedures:

Requests for access must be made in accordance with the Notification Procedure above and the Postal Service Privacy Act regulations regarding access to records and verification of identity under 39 CFR 266.6.

Contesting Record Procedures:

See Notification Procedure and Record Access Procedures above.

Record Source Categories:

Customers; authorized service providers of postage evidencing systems; and Postal Service personnel.

USPS 580.000

System Name:

Post Office and Retail Services.

System Location:

Postal Service Headquarters, Consumer Advocate; Information Systems Service Centers (ISSC); Accounting Service Centers; and Postal Service facilities, including Post Offices (New Jersey, as an exception, does not store passport information in Post Offices), international claims and inquiry offices, and contractor locations.

Categories of Individuals Covered by the System:

1. Customers who apply for or purchase products and services at Post Offices or other retail sites. This includes products and services related to passports, Post Office boxes, caller services, and self-service equipment.

2. Senders and recipients of special mail services.

3. Authorized users of Post Office boxes and caller services.

4. Customers with inquiries or claims relating to special mail services.

Categories of Records in the System:

1. Customer information: Name, customer ID(s), company name, phone number, mail and e-mail address, record of payment, passport applications and a description of passport services rendered, Post Office box and caller service numbers.

2. Identity verification and biometric information: Driver's license; two forms of ID; signature; photographic image via self-service equipment; fingerprints, date of birth, and Social Security Numbers (SSNs) as required for passports by the State Department.

3. Recipient information: Name, address, and signature.

4. Names and addresses of persons authorized to access a Post Office box or caller service.

5. Claim and inquiry information: Mailer and addressee name, mail and e-mail address, and phone number; claimant SSN and signature; claim or inquiry description, number, and status.

6. Payment information: Credit and/or debit card number, type, and expiration date.

7. Product information: Article number.

Authority for Maintenance of the System:

39 U.S.C. 401, 403, 404, and 411; 22 U.S.C. 214; and 31 U.S.C. 7701.

Purpose(s):

1. To enable customers to apply for and purchase nonfinancial products and services at Post Offices and other retail locations.

2. To ensure accurate mail delivery.

3. To respond to inquiries and claims related to special mail services.

Routine Uses of Records Maintained in the System, Including Categories of Users and the Purposes of such Uses:

In addition to the standard routine uses for customer-related systems, the following additional routine uses also apply with the exception noted below:

a. Disclosure of boxholder information may be made to a federal, state, or local government agency upon prior written certification that the information is required for the performance of its duties. A copy of PS Form 1093, Application for Post Office Box or Caller Service, may be furnished.

b. The name or address of the holder of a Post Office box may be disclosed to a person empowered to serve legal process, or the attorney for a party in whose behalf service will be made, or a party who is acting pro se, on receipt of written information that meets prescribed certification requirements. A copy of PS Form 1093 will not be furnished.

c. Disclosure of boxholder information may be made, on prior written certification from a foreign government agency citing the relevance of the information to an indication of a violation or potential violation of law and its responsibility for investigating or prosecuting such violation, and only if the address is (a) outside the United States and its territories, and (b) within the territorial boundaries of the requesting foreign government. A copy of PS Form 1093 may be furnished.

All routine uses are subject to the following exception: Information concerning an individual boxholder who has filed an appropriate protective court order with the postmaster will not be disclosed under any routine use except pursuant to the order of a court of competent jurisdiction.

Policies and Practices for Storing, Retrieving, Accessing, Retaining, and Disposing of Records in the System:

Storage:

Automated databases, computer Storage media, and paper.

Retrievability:

By name, customer ID(s), ZIP Code, article number, claim number, Post Office box or caller service number, check number, or debit and/or credit card number.

Safeguards:

Paper records, computers, and computer Storage tapes and disks are maintained in controlled-access areas or under general supervision of program personnel. Computers are protected by a cipher lock system, card key system, or other physical access control methods. Computer systems are also protected with an installed security software package, computer logon identifications, and operating system controls including access controls, terminal and use identifications, and file management. Online data transmissions are protected by encryption.

Access to these records is limited to authorized personnel, who must be identified with a badge. Contractors must provide similar protection subject to contract controls and a security compliance review by the Postal Inspection Service.

Retention and Disposal:

Passport applications are mailed on the day of acceptance with fees and documentation. Records related to passports are destroyed after 4 months.

Records related to Special Services for domestic and International Express Mail are retained for up to 1 year. Domestic and international Special Services records are retained for 2 years. Records relating to Post Office boxes and caller services are retained for up to 2 years after the customer relationship ends. Records collected via self-service equipment are retained for up to 2 years. Records related to credit and/or debit card transactions are retained for 2 years. Records related to inquiries and claims are retained for up to 3 years from final action on the claim. Records related to retail transactions are retained for up to 5 years.

Records are deleted or destroyed at the end of the retention period.

System Manager(s) and Address:

Chief Marketing Officer and Senior Vice President, United States Postal Service, 1735 N Lynn St., Arlington, VA 22209.

Senior Vice President, Operations, United States Postal Service, 475 L'Enfant Plz. SW., Washington, DC 20260.

Notification Procedure:

For records relating to Post Office boxes, caller services, self-service, and passports, inquiries made in person must be made by the subject individual at the local Post Office. Requestors must identify themselves with a driver's license or military, government, or other form of acceptable identification. (Note: for passports, inquiries are best directed to the Department of State, which maintains the original case file.)

For Special Services, information can be obtained from the facility where the service was obtained, or can be accessed on http://www.usps.com. Inquiries should include name, date of mailing, and article number. For Special Services claims, customers can write a letter, including name, date of claim, and claim number, to the head of the facility where the claim was filed, or can call 888-601-9328.

Record Access Procedures:

Requests for access must be made in accordance with the Notification Procedure above and the Postal Service Privacy Act regulations regarding access to records and verification of identity under 39 CFR 266.6.

Contesting Record Procedures:

See Notification Procedure and Record Access Procedures above.

Record Source Categories:

Customers.

USPS 590.000

System Name:

Sales, Marketing, Events, and Publications.

System Location:

Postal Service Headquarters Marketing and Public Policy; Information Systems Service Centers (ISSC); National Customer Service Center; Area and District Postal Service facilities; Post Offices; and contractor sites.

Categories of Individuals Covered by the System:

Customers who interact with Postal Service sales personnel, respond to direct marketing messages, request publications, respond to contests and surveys, and attend Postal Service events.

Categories of Records in the System:

1. Customer information: Customer and key contacts' names, mail and e-mail addresses, phone, fax and pager numbers; job descriptions, titles, and roles; other names and e-mails provided by customers.

2. Identifying information: Customer ID(s), D-U-N-S Numbers, Postal Service account numbers, meter numbers, and signatures.

3. Business specific information: Firm name, size, and years in business; number of employees; sales and revenue information; business sites and locations; URLs; company age; industrial classification numbers; use of Postal Service and competitors products and services; types of customers served; customer equipment and services; advertising agency and spending; names of Postal Service employees serving the firm; and calls made.

4. Information specific to companies that act as suppliers to Postal Service: Contract start and end dates, contract award number, contract value, products and/or services sold under contract.

5. Information provided by customers as part of a survey or contest.

6. Payment information: Credit and/or debit card number, type, expiration date, and check information; and Automated Clearing House (ACH) information.

7. Event information: Name of event; role at event; itinerary; and membership in a PCC.

8. Customer preferences: Preferences for badge name and accommodations.

Authority for Maintenance of the System:

39 U.S.C. 401, 403, and 404.

Purpose(s):

1. To understand the needs of customers and improve Postal Service sales and marketing efforts.

2. To provide appropriate materials and publications to customers.

3. To conduct registration for Postal Service and related events.

Routine Uses of Records Maintained in the System, Including Categories of Users and the Purposes of such Uses:

The standard routine uses for customer-related systems apply.

Policies and Practices for Storing, Retrieving, Accessing, Retaining, and Disposing of Records in the System:

Storage:

Automated databases, computer Storage media, and paper.

Retrievability:

For sales, events, and publications, information is retrieved by customer name or customer ID(s), mail or e-mail address, and phone number.

For direct marketing, information is retrieved by Standard Industry Code (SIC) or North American Industry Classification System (NAISC) number, and company name.

Safeguards:

For sales, events, and publications, paper records and computer Storage tapes and disks are maintained in controlled-access areas or under general supervision of program personnel. Computers containing information are located in controlled-access areas with personnel access controlled by a cipher lock system, card key system, or other physical access control method, as appropriate. Authorized persons must be identified by a badge. Computer systems are protected with an installed security software package, computer logon identifications, and operating system controls including access controls, terminal and user identifications, and file management. Online data transmission is protected by encryption.

For direct marketing, paper records and computer Storage tapes and disks are maintained in controlled-access areas or under general scrutiny of program/contractor personnel. Access is controlled by logon ID and password as authorized by the Marketing organization via secure Web site. Within the secured Storage facility, authorized persons must be identified by a badge. Online data transmission is protected by encryption.

Contractors must provide similar protections subject to contract controls and a security compliance review by the Postal Inspection Service.

Retention and Disposal:

Records relating to organizations and publication mailing lists are retained until the customer ceases to participate. ACH records are retained for up to 2 years. Records relating to direct marketing, advertising, and promotions are retained for 5 years.

Other records are retained for 3 years after the relationship ends.

Records are deleted or destroyed at the end of the retention period.

System Manager(s) and Address:

Chief Marketing Officer and Senior Vice President, United States Postal Service, 1735 N. Lynn St., Arlington VA 22209.

Notification Procedure:

For information pertaining to sales, inquiries should be addressed to: Office of Sales Performance Assessment and Administration, 1735 N. Lynn St., Arlington, VA 22209.

Customers wanting to know if other information about them is maintained in this system of records must address inquiries in writing to the Chief Marketing Officer, and include their name and address.

Record Access Procedures:

Requests for access must be made in accordance with the Notification Procedure above and the Postal Service Privacy Act regulations regarding access to records and verification of identity under 39 CFR 266.6.

Contesting Record Procedures:

See Notification Procedure and Record Access Procedures above.

Record Source Categories:

Customers, Postal Service personnel, and list providers.

USPS 600.000

System Name:

International Services.

System Location:

Postal Service Headquarters, Information Systems Service Centers (ISSC), and Postal Service facilities.

Categories of Individuals Covered by the System:

Customers shipping to or from international locations.

Categories of Records in the System:

1. Customer information: customer name, customer ID(s), and contact information.

2. Name and address of senders and addressees.

3. Information pertaining to mailings: Contents, order number, volume, destination, weight, origin, and type of mailing.

4. Customer barcode scan data.

5. Company name; contact name, title, and phone and fax number; mail and e-mail address; after-hours contact name and phone number; Tax ID number; Permit account number; and CAPS account number.

Authority for Maintenance of the System:

39 U.S.C. 401, 403, and 404.

Purpose(s):

1. To provide international mailings and business services.

2. To provide Postal Service scan data to customers for mail tracking purposes.

3. To support customized mail agreements with international customers.

4. To satisfy reporting requirements for customs purposes.

Routine Uses of Records Maintained in the System, Including Categories of Users and the Purposes of such Uses:

The standard routine uses for customer-related systems apply.

Policies and Practices for Storing, Retrieving, Accessing, Retaining, and Disposing of Records in the System:

Storage:

Automated databases, computer Storage media, and paper.

Retrievability:

By customer name, ID number(s).

Safeguards:

Paper records and computer Storage tapes and disks are maintained in controlled-access areas or under general supervision of program personnel. Hardware is stored in secure cabinets and hardcopy materials are stored in locked Storage cabinets. Data is firewall protected and accessible by the customer by username and password. Postal Service access is restricted to authorized personnel.

Retention and Disposal:

Records related to the Pre-Customs Advisory System are retained for 5 years and then erased, according to the requirements of domestic and foreign Customs services.

Other records are retained for 3 years after the relationship ends.

Records are deleted or destroyed at the end of the retention period.

System Manager(s) and Address:

Vice President, International Business, United States Postal Service, 1735 N Lynn St, Arlington VA 22209.

Notification Procedure:

Customers wanting to know if other information about them is maintained in this system of records must address inquiries in writing to the system manager, and include their name and address.

Record Access Procedures:

Requests for access must be made in accordance with the Notification Procedure above and the Postal Service Privacy Act regulations regarding access to records and verification of identity under 39 CFR 266.6.

Contesting Record Procedures:

See Notification Procedure and Record Access Procedures above.

Record Source Categories:

Customers and Postal Service personnel.

USPS 610.000

System Name:

Identity and Document Verification Services.

System Location:

Postal Service Marketing, Headquarters; Information Systems Service Centers (ISSC); and contractor sites.

Categories of Individuals Covered by the System:

Customers who apply for identity and document verification services.

Categories of Records in the System:

1. Customer information: Name, address, customer ID(s), telephone number, mail and e-mail address, date of birth, place of birth, company name, title, role, and employment status.

2. Names and contact information of users who are authorized to have access to data.

3. Verification and payment information: Credit and/or debit card information or other account number, government issued ID type and number, verification question and answer, and payment confirmation code. (Note: Social Security Number (SSN) and credit and/or debit card information are collected, but not stored, in order to verify ID.)

4. Biometric information including fingerprint, photograph, height, weight, and iris scans. (Note: Information may be collected, secured, and returned to customer, but not stored.)

5. Digital certificate information: Customer's public key(s), certificate serial numbers, distinguished name, effective dates of authorized certificates, certificate algorithm, date of revocation or expiration of certificate, and Postal Service-authorized digital signature.

6. Transaction information: clerk signature; product use and inquiries.

7. Electronic information related to encrypted documents.

Authority for Maintenance of the System:

39 U.S.C. 401, 403, and 404.

Purpose(s):

1. To provide services related to identity and document verification services.

2. To issue and manage public key certificates and/or electronic postmarks.

3. To provide secure mailing services.

Routine Uses of Records Maintained in the System, Including Categories of Users and the Purposes of such Uses:

The standard routine uses for customer-related systems apply.

Policies and Practices for Storing, Retrieving, Accessing, Retaining, and Disposing of Records in the System:

Storage:

Automated databases, computer Storage media, and paper.

Retrievability:

By customer name, customer ID(s), distinguished name, certificate serial number, receipt number, and transaction date.

Safeguards:

For public keys, hardcopy records and computer records are stored in a building with access controlled by guards and room access controlled by card readers. Information in the database is protected by a security architecture of several levels that includes an asynchronous gateway, network firewall, operating security system, and database software security architecture. Internal access to the database is limited to the system administrator, database administrator, and designated support personnel. Key pairs are protected against cryptanalysis by encrypting the private key and by using a shared secret algorithm to protect the encryption key, and the certificate authority key is stored in a separate, tamperproof, hardware device. Activities are audited, and archived information is protected from corruption, deletion, and modification.

For authentication services and electronic postmark, electronic data is transmitted via secure socket layer (SSL) encryption to a secured data center. Computer media are stored within a secured, locked room within the facility. Access to the database is limited to the system administrator, database administrator, and designated support personnel. Paper forms are stored within a secured area within locked cabinets.

Retention and Disposal:

Records related to Pending Public Key Certificate Application Files are added as received to an electronic database, moved to the authorized certificate file when they are updated with the required data, and records not updated within 90 days from the date of receipt are destroyed.

Records related to the Public Key Certificate Directory are retained in an electronic database, are consistently updated, and records are destroyed as they are superseded or deleted.

Records related to the Authorized Public Key Certificate Master File are retained in an electronic database for the life of the authorized certificate.

When the certificate is revoked, it is moved to the certificate revocation file.

The Public Key Certificate Revocation List is cut off at the end of each calendar year and records are destroyed 30 years from the date of cutoff.

Records may be retained longer with customer consent or request.

Other records in this system are retained for 7 years.

Records are deleted or destroyed at the end of the retention period.

System Manager(s) and Address:

Chief Marketing Officer and Senior Vice President, United States Postal Service, 1735 N Lynn St, Arlington VA 22209.

Notification Procedure:

For authentication services, electronic postmarks, and digital certificates, inquiries should be addressed to:

Manager, Identity and Document Verification Services, United States Postal Service, 475 L'Enfant Plz. SW., Washington DC 20260.

Customers wanting to know if other information about them is maintained in this system of records must address inquiries in writing to the system manager, and include their name and address.

Record Access Procedures:

Requests for access must be made in accordance with the Notification Procedure above and the Postal Service Privacy Act regulations regarding access to records and verification of identity under 39 CFR 266.6.

Contesting Record Procedures:

See Notification Procedure and Record Access Procedures above.

Record Source Categories:

Customers.

Stanley F. Mires,
Chief Counsel, Legislative.

[FR Doc. 02-31386 Filed 12-13-02; 8:45 am]

BILLING CODE 7710-12-P